DEPARTMENT OF AGRICULTURE

Commodity Credit Corporation

7 CFR Part 1414

[Docket ID FSA-2026-0001]

RIN 0560-AI87

Farmer Bridge Assistance (FBA) Program

AGENCY: Commodity Credit Corporation, U.S. Department of Agriculture (USDA).

ACTION: Final rule.

SUMMARY: The Commodity Credit Corporation (CCC) is issuing this rule to provide $11 billion in one-time bridge payments to American farmers in response to temporary trade market disruptions and increased production costs. Payments under the Farmer Bridge Assistance (FBA) Program are intended in part to aid producers until assistance from provisions in the One Big Beautiful Bill Act (OBBBA), notably increases in reference prices to major covered commodities, reach eligible famers after October 1, 2026.

DATES: This rule is effective on February 23, 2026.

FOR FURTHER INFORMATION CONTACT: Michael Walter; telephone: (816) 491-6934; or email: Michael.Walter1@usda.gov. Individuals with disabilities who require alternative means for communication should contact the USDA Target Center at (202) 720-2600 (voice and text telephone (TTY mode)) or dial 711 for Telecommunications Relay Service (both voice and text telephone users can initiate this call from any telephone).

SUPPLEMENTARY INFORMATION:

Table of Contents

I. Background

II. How To Apply

III. Payment Limitation and Payment Eligibility

IV. Regulatory Analyses

A. Notice and Comment and Effective Date

B. Executive Orders 12866, 13563, and 14192

C. Cost Benefit Analysis Summary

D. Environmental Review

E. Executive Order 13175

F. Unfunded Mandates Reform Act

G. Paperwork Reduction Act Requirements

H. E-Government Act Compliance

I. Background

CCC will make $11 billion available in one-time bridge payments to American farmers in response to temporary trade market disruptions and increased production costs that are still impacting farmers. These bridge payments are intended in part to aid farmers until historic investments from the OBBBA (Pub. L. 119-21), including reference prices which are set to increase between 10-21 percent for major covered commodities such as soybeans, corn, and wheat, reach eligible farmers after October 1, 2026. Eligible producers are those who: (1) produced 2025 crops of barley, canola, chickpeas, corn, cotton, crambe, flax, lentils, mustard, oats, peanuts, peas, rapeseed, rice, safflower, sesame, sorghum, soybeans, sunflower, and wheat (referred to as “eligible commodities” in this rule); (2) have timely filed a crop acreage report with the Farm Service Agency (FSA) by December 19, 2025, specifying the acreage planted to each eligible commodity in crop year 2025; and (3) comply with other requirements specified in this rule.

The FBA Program will help address market disruptions, elevated input costs, persistent inflation, and market losses. The FBA Program applies simple, proportional assistance to producers using a uniform formula to cover a portion of modeled losses during the 2025 crop year. This national loss average is based on FSA timely reported planted acres, Economic Research Service (ERS) cost of production estimates, World Agricultural Supply and Demand Estimates (WASDE) yields and prices (for many crops), and economic modeling (for crops not covered in WASDE or for which ERS cost of production data are unavailable). Producers are not required to purchase crop insurance or Noninsured Crop Disaster Assistance Program (NAP) coverage to be eligible for the FBA Program; however, USDA strongly urges producers to take advantage of the new OBBBA risk management tools to best protect against price risk and volatility in the future. CCC intends to issue FBA Program payments to eligible producers in early 2026.

The Agricultural Act of 2014 (“2014 Act”; Pub. L. 113-79) authorized assistance to producers of specified commodities under the Agricultural Risk Coverage (ARC) and the Price Loss Coverage (PLC) Programs for the 2014 through 2018 crop years. Generally, these programs provide assistance when market prices are less than specified “effective prices” set forth in the 2014 Act. The ARC Program provides payments when actual crop revenues fall below a specified guarantee level, while the PLC Program provides payments when the national average market price (or the national average loan rate, if higher) for a given covered commodity falls below a specified effective reference price for that commodity.

The Agriculture Improvement Act of 2018 (Pub. L. 115-334) extended these programs through the 2023 crop year, and subsequent 1-year extensions authorized continuation of the programs through the 2025 crop year (Pub. L. 118-22; Pub. L. 118-158). While these acts made minor changes to the structure of the ARC and PLC Programs, statutory reference prices were not updated to reflect changes in market prices that had occurred since the enactment of the 2014 Act (see Table 1).

Since the enactment of the 2014 Act, there have been major changes in commodity markets and the price of inputs required to produce covered commodities included in the ARC and PLC Programs. During the past four years the costs associated with the production of these commodities have increased significantly. Recognizing these changes in markets, and specifically the increase in input costs, the OBBBA increased the statutorily established reference prices used to administer these programs for the 2025 through 2030 crop years.

Table 1—Reference Prices for ARC and PLC Program Covered Commodities
Covered commodity | Reference price: 2014-2024 | Reference price: 2025-2030 * | Unit
Barley | $4.95 | $5.45 | Dollars/Bushel.
Canola | 20.15 | 23.75 | Dollars/Hundredweight.
Chickpeas, Large | 21.54 | 25.65 | Dollars/Hundredweight.
Chickpeas, Small | 19.04 | 22.65 | Dollars/Hundredweight.
Corn | 3.70 | 4.10 | Dollars/Bushel.
Crambe | 20.15 | 23.75 | Dollars/Hundredweight.
Dry Peas | 11.00 | 13.10 | Dollars/Hundredweight.
Flaxseed | 20.15 | 23.75 | Dollars/Hundredweight.
Grain Sorghum | 3.95 | 4.40 | Dollars/Bushel.
Lentils | 19.97 | 23.75 | Dollars/Hundredweight.
Mustard Seed | 20.15 | 23.75 | Dollars/Hundredweight.
Oats | 2.40 | 2.65 | Dollars/Bushel.
Peanuts | 535.00 | 630.00 | Dollars/Ton, Short (2,000 lbs.).
Rapeseed | 20.15 | 23.75 | Dollars/Hundredweight.
Rice, Long Grain | 14.00 | 16.90 | Dollars/Hundredweight.
Rice, Medium Grain | 14.00 | 16.90 | Dollars/Hundredweight.
Rice, Temperate Japonica ** | 17.30 | 24.33 | Dollars/Hundredweight.
Safflower | 20.15 | 23.75 | Dollars/Hundredweight.
Seed Cotton ** | 0.367 | 0.42 | Dollars/Pound.
Sesame Seed | 20.15 | 23.75 | Dollars/Hundredweight.
Soybeans | 8.40 | 10.00 | Dollars/Bushel.
Sunflower Seed | 20.15 | 23.75 | Dollars/Hundredweight.
Wheat | 5.50 | 6.35 | Dollars/Bushel.
* Reference prices are automatically increased by 1.005 starting in 2031.
** The temperate japonica rice reference price was updated in crop year 2019 from $16.10 to $17.30. Seed cotton became a covered commodity in crop year 2018.

Producers of many covered commodities, especially soybeans and corn, have been subject to market-distorting actions of foreign governments. Imposition of tariffs and delayed purchases have affected the ability of U.S. producers to export, thus reducing domestic prices of 2025 crops. While the increase in reference prices will provide increased protection to producers of 2025 and subsequent crops, payments under ARC and PLC are not made until after October 1 of the year following the year in which the crop was produced. Accordingly, payments for 2025 crop production will not be made until after October 1, 2026. These producers are currently making planting and financing decisions regarding 2026 crops, and this delayed payment process creates substantial obstacles for many producers who rely on these payments to maintain their farming operations.

To sustain producers until these payments are made, the Department has determined that additional assistance for these producers is necessary. Section 5(b) of the CCC Charter Act (15 U.S.C. 714c(b)) provides that CCC may use its funds to “(m)ake available materials and facilities required in connection with the production and marketing of agricultural commodities (other than tobacco).” Accordingly, $11 billion of CCC funds will be used to assist producers under the FBA Program.

In order to ensure that producers may receive assistance as they make 2026 crop financing decisions, CCC will calculate payments using the 2025 planted acreage producers reported to FSA on FSA-578, Report of Crop Acreage, by December 19, 2025. Use of the 2025 timely reported acreage not only expedites making these payments, but also ensures that issuing the payments does not distort 2026 crop planting decisions. Acreage that is timely reported as an initial, double-crop, or subsequent commodity will be eligible for FBA Program payments. Acreage that is reported as a cover crop or with an intended use of grazing, left standing, volunteer, green manure, or experimental will not be eligible for FBA Program payments.

Payments for a producer will be calculated by multiplying the applicable payment rate for an eligible commodity by the eligible acreage timely reported for the commodity on the FSA-578.

CCC has calculated a payment rate for each eligible commodity using a 30.41 percent factor, which reflects the share of expected economic loss covered by FBA funding. This factor is used so that total payments do not exceed the $11 billion in program funding and is based on eligible acres per commodity.

The payment calculation for each eligible crop requires data on expected cost of production per acre and the expected gross return (crop yield multiplied by price) per acre. Where available, the expected cost of production per acre for a commodity is equal to the 2025 crop year “total cost” forecast in the “National Average Cost-of-Production Forecasts for Major U.S. Field Crops” data product published by ERS.¹ The expected gross return per acre for a commodity is equal to the projected average farm price for the commodity for the 2025 through 2026 marketing year, taken from the December 9, 2025 WASDE report,² multiplied by the national average harvested yield per acre for the commodity for the 2025 crop year.³ The net gross return is the gross return minus the expected cost of production.

¹ The ERS data product is “Cost-of-production forecasts for major U.S. field crops, 2025F-2026F” updated on December 18, 2025, available at https://www.ers.usda.gov/data-products/commodity-costs-and-returns.

² Projected average farm prices for eligible and available commodities for the 2025 through 2026 marketing year were taken from the December 9, 2025, report, available at https://www.usda.gov/oce/commodity/wasde/wasde1225.pdf.

³ Crop year 2025 harvested yields were calculated using 2025 yield estimates from USDA's National Agricultural Statistics Service (NASS). For those crops where a 2025 harvested yield estimate is not yet available, the Olympic average of NASS data for 2020-2024 was used.

An example of the resulting payment calculation for corn is shown in Table 2.

Table 2—Corn Example Payment Rate Calculations; Variables for FBA Payment Calculations and Final Payment Rate
[Per acre]
Crop | 2025 Harvested yield | Price forecast | Forecasted cost of production | Economic loss using 30.41 percent factor | Payment rate using 30.41 percent factor
| (a) | (b) | (c) | ((a * b)−c) * 0.3041 | (a * b)−c * 0.3041
Corn | 186 bushels per acre | $4.00 per bushel | $889.88 per acre | −$44.36 per acre | $44.36 per acre.

To start, the net gross return for corn is calculated:

Net Gross Return for Corn = (a * b) = (186 * $4.00) = $744.00 (a * b)−c = $744−$889.88 = −$145.88/acre

The next step is to calculate the economic loss payment rate for corn:

Economic Loss Payment Rate for Corn (greater than 0 given economic loss) = |(a * b)−c| * 30.41 percent = $145.88 * 30.41 percent = $44.36/acre

The payment rate of $44.36 per acre is applied to all eligible corn acres and is also shown in Table 3, along with the rates for all other eligible commodities.

For commodities not included in the USDA data sources noted above, gross returns and costs of production were estimated. Eligible commodities that do not have a price projection available in WASDE, nor a cost-of-production forecast in the “Cost of-Production Forecasts for Major U.S. Field Crops, 2025F-2026F” ERS data product, are pulse crops (large chickpeas, small chickpeas, dry peas, lentils) and certain oilseeds (canola, crambe, flax, mustard, rapeseed, safflower, sesame, sunflower). Peanuts do not have a WASDE price forecast. For commodities not available in the WASDE, price projections for the 2025-2026 marketing year were taken from the ARC/PLC 2025 Market Year Average Prices web posting as of December 2025. This is the only data set published by USDA that provides crop year price forecasts for those crops that are not included in the WASDE, and these prices are determined using similar methods as WASDE forecasts.

Regarding cost of production data for the pulses and oilseeds not included in ERS's costs of production data product, USDA researched and evaluated agricultural extension budgets and other sources. These budgets were not used as they are based on differing computational methodologies, can be outdated, and can vary considerably across states even with seemingly similar production environments. Instead, national average costs of production for pulses and certain oilseeds were estimated based on a statistical equation involving crops with complete costs and returns data.⁴ After the equation was estimated, the resulting coefficients were applied to the 2025 NASS average harvested yield or Olympic average yields, the ARC/PLC 2025 market year average price of each commodity, and 2023 and 2024 NASS yields and prices, with the model then predicting costs for each crop having incomplete data. This methodology provides a uniform approach to estimating production costs for crops with incomplete data, and uses the best available data to reflect market conditions. The resulting production costs are shown in Table 3 (column c), and given the cost estimate, the calculation of the payment rate follows the same methodology as shown above for corn.

⁴ For a detailed explanation of the payment rates for these crops, see the Cost Benefit Analysis posted in Docket ID FSA-2026-0001 on http://www.regulations.gov.

Table 3—Variables for FBA Program Payment Calculations and Final Payment Rate per Acre, by Commodity
Commodity | 2025 Yield | Price forecast in dollars | 2025 Forecasted cost of production | Net gross return | Economic loss using 30.41 percent factor | FBA payment rate per acre
| (a) | (b) | (c) | (a * b)−c | ((a * b)−c) * 30.41 | (d)
Barley (bu) | 80 | 5.30 | 491.43 | −67.43 | −20.51 | $20.51
Canola (lb) | 1,789 | 0.2150 | 462.15 | −77.51 | −23.57 | 23.57
Chickpeas, large (lb) | 1,411 | 0.280 | 482.09 | −87.01 | −26.46 | 26.46
Chickpeas, small (lb) | 1,440 | 0.1940 | 389.07 | −109.71 | −33.36 | 33.36
Corn (bu) | 186 | 4.00 | 889.88 | −145.88 | −44.36 | 44.36
Cotton, all (lbs) | 929 | 0.60 | 943.28 | −385.88 | −117.35 | 117.35
Crambe (lb) | 2,030 | 0.3750 | 678.11 | 83.14 | 0 | 0.00
Flax (bu) | 18 | 13.50 | 267.23 | −26.48 | −8.05 | 8.05
Lentils (lb) | 1,055 | 0.3130 | 409.09 | −78.87 | −23.98 | 23.98
Mustard (lb) | 585 | 0.4280 | 326.84 | −76.31 | −23.21 | 23.21
Oats (bu) | 73.8 | 3.10 | 497.60 | −268.82 | −81.75 | 81.75
Peanuts (cwt) | 39.3 | 25.00 | 1,165.50 | −183 | −55.65 | 55.65
Peas (lb) | 1,814 | 0.1180 | 278.52 | 64.46 | 19.6 | −19.60
Rapeseed (lb) | 1,954 | 0.3125 | 556.54 | 54.19 | 0 | $0.00
Rice (cwt) | 75.06 | 11.60 | 1,307.68 | −436.98 | −132.89 | 132.89
Safflower (lb) | 1,150 | 0.23 | 346.26 | −81.76 | −24.86 | 24.86
Sesame (lb) | 594 | 0.33 | 241.06 | −44.98 | −13.68 | 13.68
Sorghum (bu) | 75 | 3.80 | 443.19 | −158.19 | −48.11 | 48.11
Soybeans (bu) | 53 | 10.50 | 658.06 | −101.56 | −30.88 | 30.88
Sunflower (lbs) | 1,699 | 0.2305 | 448.51 | −56.96 | −17.32 | 17.32
Wheat, all (bu) | 53.3 | 5.00 | 395.90 | −129.4 | −39.35 | 39.35
Note: The data do not show economic losses for rapeseed and crambe; in addition, there are no reported acres for crambe.
Table 1 & 3 Sources:
(a) 2025/2026 harvested yields are from NASS (pulled from QuickStats in December 2025). The minor oilseed crops' 2025 harvested yields are not yet available from NASS. An Olympic average for 2020-2024 was used for canola, rapeseed, safflower, flax, sesame, mustard, and sunflower. Sesame harvested yield estimates are not available from NASS. Sesame's 2025 harvested yield was calculated using: (1) harvested acres and production for sesame from the 2022 Census of Agriculture, and (2) the year-to-year change in NASS's canola yield for 2022 to 2023, for 2023 to 2024, and for 2024 to 2025. Historical internal estimates of crambe yields are those used for President's Budget purposes.
(b) 2025-2026 marketing year price forecasts are from the December 9, 2025 WASDE report, for barley, corn, cotton, oats, peanuts, rice, soybeans, and wheat. The remaining commodity price forecasts are from the 2025-2026 ARC/PLC Marketing Year Average Prices on the FSA website.
(c) 2025 costs-of-production forecasts are from ERS's “Cost-of-production forecasts for major U.S. fields crops, 2025F-2026F” updated on December 18, 2025 (including wheat, corn, sorghum, barley, oats, cotton, peanuts, rice, and soybeans). For commodities that are not available in this publication, a statistical approach was implemented as described above.

II. How To Apply

CCC is in possession of all the information needed to calculate payments for each producer. FSA will prepare a CCC-555, Farmer Bridge Assistance (FBA) Program Application, for each eligible producer using the acreage timely reported for each eligible commodity in all states and counties. FSA will use the persons identified as producers on FSA-578, Report of Acreage, and the respective percentages of interest in the eligible commodity. Potential program participants must obtain their pre-filled CCC-555 from FSA through the electronic portal, which can be accessed through the FBA Program web page at https://www.fsa.usda.gov/fba, or by contacting any local FSA county office. Persons who believe that their interest in an eligible commodity is not accurately reflected in current FSA records must contact FSA to provide any information that the person believes is relevant to correcting this information. Form CCC-555 must be returned to FSA by April 17, 2026.

Producers must also submit the following eligibility forms to FSA by April 19, 2027, if not already on file with FSA for the 2025 program year:

• CCC-901, Member Information for Legal Entities, if applicable;

• CCC-902E, Farm Operating Plan for an Entity; if applicable;

• CCC-902I, Farm Operating Plan for an Individual, if applicable;

• CCC-941, Average Adjusted Gross Income (AGI) Certification and Consent to Disclosure of Tax Information, for individuals, legal entities, and members of legal entities, excluding joint ventures and general partnerships; and

• AD-1026 Highly Erodible Land Conservation (HELC) and Wetland Conservation (WC) Certification, for the producer and affiliated persons, as specified in 7 CFR 12.8.

III. Payment Limitation and Payment Eligibility

The total amount of FBA Program payments received, directly or indirectly, by a person or legal entity (except a joint venture or general partnership) may not exceed $155,000. In addition, a person or legal entity, other than a joint venture or general partnership, is ineligible for FBA Program payments, directly or indirectly, if the person's or legal entity's average adjusted gross income (AGI), using the average of the adjusted gross incomes for the 2021, 2022, and 2023 tax years, exceeds $900,000. A producer must be actively engaged in farming, as specified in 7 CFR part 1400, subparts C and G, to be eligible for the FBA Program.

FSA will administer the payment limitation, payment eligibility, and average AGI limitation according to the regulations set forth at 7 CFR part 1400 as in effect on February 23, 2026, except that Subpart E, Foreign Person eligibility, does not apply to the FBA Program.

IV. Regulatory Analyses

A. Notice and Comment and Effective Date

The Administrative Procedure Act (APA, 5 U.S.C. 553(a)(2)) provides that the notice and comment requirements and 30-day delay in the effective date provisions of that Act do not apply when the rule involves specified actions, including matters relating to loans, grants, benefits, and contracts. This rule falls within this exemption.

This rule is exempt from the regulatory analysis requirements of the Regulatory Flexibility Act (5 U.S.C. 601-612), as amended by the Small Business Regulatory Enforcement Fairness Act of 1996 (SBREFA), because it involves matters relating to benefits. The requirements for the regulatory flexibility analysis in 5 U.S.C. 603 and 604 are specifically tied to the requirement for a proposed rule by section 553 or any other law; in addition, the definition of “rule” in 5 U.S.C. 601 is tied to the publication of a proposed rule.

The Office of Management and Budget (OMB) found this rule meets the criteria in 5 U.S.C. 804(2) of the Congressional Review Act (CRA), which would ordinarily necessitate delaying its effective date for 60 days (5 U.S.C. 801(a)(3)(A)). However, the CRA, at 5 U.S.C. 808(2), allows an agency to make such regulations effective immediately if the agency finds there is good cause to do so. CCC has determined that such good cause exists here as benefits made by this rule are critical to the financial stability of producers who participate in this program and this assistance is necessary to help those producers sustain their normal business operations. Therefore, CCC is not required to delay the effective date for 60 days from the date of publication to allow for Congressional review. Accordingly, this rule is effective upon publication in the Federal Register.

B. Executive Orders 12866, 13563, and 14192

Executive Order 12866, “Regulatory Planning and Review,” and Executive Order 13563, “Improving Regulation and Regulatory Review,” direct agencies to assess all costs and benefits of available regulatory alternatives and, if regulation is necessary, to select regulatory approaches that maximize net benefits (including potential economic, environmental, public health and safety effects, distributive impacts, and equity). Executive Order 13563 emphasized the importance of quantifying both costs and benefits, of reducing costs, of harmonizing rules, and of promoting flexibility. Executive Order 14192, “Unleashing Prosperity Through Deregulation,” announced the Administration policy to significantly reduce the private expenditures required to comply with Federal regulations to secure America's economic prosperity and national security and the highest possible quality of life for each citizen and to alleviate unnecessary regulatory burdens placed on the American people. In line with the Executive Order requirements, CCC will use existing information available to CCC to maximize benefits and minimize burden on American producers. This rule is not an Executive Order 14192 regulatory action because it does not impose any more than de minimis regulatory costs.

The Office of Management and Budget (OMB) designated this rule as economically significant under Executive Order 12866, section 3(f)(1), and therefore, OMB has reviewed this rule. The costs and benefits of this rule are summarized below. The Cost Benefit Analysis is available on regulations.gov.

C. Cost Benefit Analysis Summary

The FBA Program applies simple, proportional assistance to producers of crops that experienced an economic loss in crop year 2025 using a formula to cover a portion of losses. The concept of economic loss is the basis for the methodology. CCC calculated a payment rate for each eligible commodity, which is a function of the 30.41 percent factor and which reflects the share of expected economic loss covered by FBA Program funding. This factor value is used so that total payments do not exceed the $11 billion in program funding and is based on eligible acres per crop in addition to prices, yields, and costs.

To estimate the total program cost per crop, each crop's respective payment rate is applied to the total number of eligible acres for that crop reported to FSA. The total program cost is estimated to be $10.998 billion. The total cost to the government is the equivalent benefit to producers. The final cost will depend on the number of applications submitted and approved.

D. Environmental Review

The environmental impacts have been considered in a manner consistent with the provisions of the National Environmental Policy Act (NEPA, 42 U.S.C. 4321-4347) and the USDA regulation for compliance with NEPA (7 CFR part 1b).

There are no actions under this rule that have the potential to impact the human environment. Accordingly, the actions under this rule are covered by the FSA Categorical Exclusions specified in 7 CFR 1b.4(c)(16)(viii) that apply to individual farm participation in FSA programs where no ground disturbance or change in land use occurs as a result of the proposed action or participation, and 7 CFR 1b.(c)(16)(ix) that applies to safety net programs.

No Extraordinary Circumstances (§ 1b.3(f)) exist because this is an administrative payment program. The FBA Program does not constitute major Federal action that would significantly affect the quality of the human environment, individually or cumulatively. Therefore, CCC will not prepare an environmental assessment or environmental impact statement for this action and, consistent with § 1b.3(g), this document serves as the programmatic finding of applicability and no extraordinary circumstance (FANEC) for this Federal action.

E. Executive Order 13175

This rule has been reviewed in accordance with the requirements of Executive Order 13175, “Consultation and Coordination with Indian Tribal Governments.” Executive Order 13175 requires Federal agencies to consult and coordinate with Tribes on a Government-to-Government basis on policies that have Tribal implications, including regulations, legislative comments or proposed legislation, and other policy statements or actions that have substantial direct effects on one or more Indian Tribes, on the relationship between the Federal Government and Indian Tribes, or on the distribution of power and responsibilities between the Federal Government and Indian Tribes.

CCC has assessed the impact of this rule on Indian Tribes and determined that this rule does not, to our knowledge, have Tribal implications that require Tribal consultation at this time. If a Tribe requests consultation in the future, FSA will work with the Office of Tribal Relations to ensure meaningful consultation is provided.

F. Unfunded Mandates Reform Act

Title II of the Unfunded Mandates Reform Act of 1995 (UMRA, Pub. L. 104-4) requires Federal agencies to assess the effects of their regulatory actions of State, local, and Tribal governments or the private sector. Agencies generally must prepare a written statement, including cost benefit analysis, for proposed and final rules with Federal mandates that may result in expenditures of $100 million or more in any 1 year for State, local or Tribal governments, in the aggregate, or to the private sector. UMRA generally requires agencies to consider alternatives and adopt the more cost effective or least burdensome alternative that achieves the objectives of the rule. This rule contains no Federal mandates, as defined in Title II of UMRA, for State, local and Tribal governments or the private sector. Therefore, this rule is not subject to the requirements of sections 202 and 205 of UMRA.

G. Paperwork Reduction Act Requirements

The Paperwork Reduction Act of 1995 (44 U.S.C. Chap. 35; see 5 CFR part 1320), requires that OMB approve all collections of information by a Federal agency from the public before they can be implemented. Respondents are not required to respond to any collection of information unless it displays a current valid OMB control number. The USDA intends to use the OMB approved information collection under the control number of 0503-0028; Expiration Date: 10/31/2027 for the purposes of this regulation.

FSA will issue payments to producers using the following forms: CCC-555, CCC-901, CCC-902E, CCC-902I, CCC-941, and AD-1026. The AD-1026 is exempt.⁵ The CCC-555 is the only new data collection activity associated with this request. The total annual burden hours for this information collection are 197,921. See table below for the breakout. This final rule is a one-time announcement of Federal financial assistance funding for the FBA Program.

⁵ This information collection is exempted from the Paperwork Reduction Act as specified in the Agricultural Act of 2014 (Pub. L. 113-79, Title II, Subtitle G, Funding and Administration).

For Further Information Contact: Requests for additional information or copies of this information collection should be directed to Michael Walter; telephone: (816) 491-6934; or email: Michael.Walter1@usda.gov.

Title: Farmer Bridge Assistance (FBA) Program.

Form Numbers: CCC-555, CCC-901, CCC-902E, CCC-902I, CCC-941, and AD-1026.

OMB Number: 0503-0028.

Expiration Date: 10/31/2027.

Type of Request: Revision to Generic Information Collection.

Abstract: As authorized by Section 5(b) of the CCC Charter Act (15 U.S.C. 714c(b)), CCC is administering the FBA Program to provide $11 billion in one-time bridge payments to producers of eligible commodities in response to temporary trade market disruptions and increased production costs.

To apply for the FBA Program, producers must execute a pre-filled CCC-555. Producers will use one application for all eligible crop acreage nationwide. Producers must also submit the following eligibility forms if not already on file with FSA due to participation in other programs: CCC-901, Member Information for Legal Entities, if applicable; CCC-902, Farm Operating Plan, for an individual or legal entity as provided in 7 CFR part 1400; CCC-941, Average Adjusted Gross Income (AGI) Certification and Consent to Disclosure of Tax Information, for individuals, legal entities, and members of legal entities, excluding joint ventures and general partnerships; and AD-1026, Highly Erodible Land Conservation (HELC) and Wetland Conservation (WC) Certification, for the participant and applicable affiliates.

Affected Public: Farms or businesses for profit (Agricultural producers).

Estimated Number Respondents: 584,700.

Estimated Number of Responses per Respondent: 1.56000000.

Estimated Number of Total Annual Responses: 912,132.

Estimated Time per Respondent: 0.21698718 hours.

Estimated Total Annual Burden on Respondents: 197,921 burden hours.

Burden activity or form | Number of respondents | Number of responses per respondent | Total annual responses | Hours per response | Total hours per year
CCC-555, Farmer Bridge Assistance (FBA) Program Application | 584,700 | 1 | 584,700 | 0.0835 | 48,822
CCC-901, Member Information for an Entity | 5,847 | 1 | 5,847 | 0.5 | 2,924
CCC-902E, Farm Operating Plan for an Entity | 58,470 | 1 | 58,470 | 0.5 | 29,235
CCC-902I, Farm Operating Plan for an Individual | 58,470 | 1 | 58,470 | 0.5 | 29,235
CCC-941, Average Adjusted Gross Income (AGI) Certification and Consent to Disclosure of Tax Information | 175,410 | 1 | 175,410 | 0.5 | 87,705
AD-1026, Highly Erodible Land Conservation (HELC) and Wetland Conservation (WC) Certification | 29,235 | 1 | 29,235 | 0.0835 | EXEMPT
Total Estimates | 584,700 | 1.56000000 | 912,132 | 0.21698718 | 197,921

There are 584,700 respondents anticipated for this data collection. The total estimated “Number of Respondents” is not a sum of respondents for all burden activities and forms. It represents the same respondents submitting responses related to different activities for this data collection; therefore, these respondents are not double counted.

H. E-Government Act Compliance

CCC is committed to complying with the E-Government Act of 2002, to promote the use of the internet and other information technologies to provide increased opportunities for citizen access to Government information and services, and for other purposes.

Federal Assistance Programs

The title and number of the Federal assistance program, as found in the Assistance Listing, to which this document applies are 10.990—Farmer Bridge Assistance (FBA) Program.

List of Subjects in 7 CFR Part 1414

Agricultural commodities, Cotton, Feed grains, Oilseeds, Peanuts, Reporting and recordkeeping requirements, Rice, Wheat.

For the reasons discussed above, this final rule amends 7 CFR chapter XIV by adding part 1414 to read as follows:

PART 1414—BRIDGE ASSISTANCE

Subpart A—Farmer Bridge Assistance Program

Sec.
1414.1 Applicability.
1414.2 Administration.
1414.3 Definitions.
1414.4 Eligible producer.
1414.5 Eligible acres.
1414.6 Time and method of application.
1414.7 Payment calculation.
1414.8 Payment eligibility and limitation.
1414.9 General provisions.

Subpart B—[Reserved]

Authority: 15 U.S.C. 714, et seq.

PART 1414—BRIDGE ASSISTANCE

Subpart A—Farmer Bridge Assistance Program

§ 1414.1 Applicability.

The regulations in this subpart are applicable to producers participating in the Farmer Bridge Assistance (FBA) Program. Producers who participate in the FBA Program will receive payments from the Commodity Credit Corporation (CCC) to assist them in the production and marketing of agricultural commodities. Payments will be based on 2025 planted and timely reported acreage of eligible commodities and on payment rates determined by CCC.

§ 1414.2 Administration.

(a) The regulations in this subpart will be administered under the general supervision and direction of the Executive Vice President, CCC. In the field, the regulations in this subpart will be administered by the Farm Service Agency (FSA) State and county committees (referred to as “State committee” and “county committee,” respectively).

(b) State executive directors, county executive directors, and State and county committees do not have authority to modify or waive any of the provisions of this subpart.

(c) The State committee may take any action authorized or required by this subpart to be taken by the county committee that has not been taken by the county committee. The State committee may also:

(1) Correct or require a county committee to correct any action taken by the county committee that is not in accordance with this subpart; or

(2) Require a county committee to withhold taking any action that is not in accordance with this subpart.

(d) No delegation in this subpart to a State or county committee precludes the Executive Vice President, CCC or a designee, from determining any question arising under this subpart or from reversing or modifying any determination made by a State or county committee.

§ 1414.3 Definitions.

The definitions in this section are applicable for all purposes of administering this subpart. The terms defined in 7 CFR parts 718 and 1400 are also applicable, except where those definitions conflict with the definitions specified in this section. Where there is a conflict or a difference in definitions specified in this subpart and parts 718 and 1400, the regulations in this subpart will apply.

CCC-555 means Form CCC-555, Farmer Bridge Assistance (FBA) Program Application.

Corn means only white, yellow, amylose, popcorn (excluding strawberry popcorn), waxy, and high amylase corn.

Cotton means extra-long staple cotton and upland cotton.

Crop year means the calendar year in which a commodity was intended for harvest.

Determined acres means that acreage established by an FSA representative by use of official acreage, digitizing areas on a photograph or other imagery, or computations from scaled dimensions or ground measurements.

Double cropping means, as determined by the Deputy Administrator on a regional basis, consecutive planting of two specific crops that have the capability to be planted and carried to maturity for the intended uses, as reported by the producer, on the same acreage as the initial crop is planted, within a 12-month period. To be considered double cropping, the planting of two specific crops must be in an area where the FSA State Committee has determined that producers are typically able to repeat the same cycle successfully in a subsequent 12-month period under normal growing conditions.

Dry peas mean Austrian, green, wrinkled seed, and yellow peas, excluding peas grown for the fresh, canning, or frozen market.

Eligible commodity means a 2025 crop of barley, canola, corn, crambe, extra-long staple cotton, flax, large chickpeas, lentils, mustard, oats, peanuts, dry peas, rapeseed, rice, safflower, sesame, small chickpeas, sorghum, soybeans, sunflower, upland cotton, and wheat.

Eligible producer means a producer of an eligible commodity who timely filed Form FSA-578 with FSA and who complies with all provisions of this subpart.

Extra-long staple cotton means cotton that follows the standard planting and harvesting practices of the area in which the cotton is grown, and meets all of the following conditions:

(1) American-Pima, Sea Island, Sealand, all other varieties of the Barbadense species of cotton and any hybrid thereof, and any other variety of cotton in which 1 or more of these varieties is predominant;

(2) The acreage is grown in a county designated as an extra-long staple cotton county by the Secretary; and

(3) The production from the acreage is ginned on a roller-type gin.

FSA-578 means Form FSA-578, Report of Crop Acreage.

Payment rate means the amount per acre for an eligible commodity that CCC has determined to use to provide assistance to eligible producers in accordance with this subpart.

Peanuts means all peanuts excluding perennial peanuts.

Rice means long grain rice and medium grain rice, including temperate japonica rice, short grain, and sweet rice.

Skip-row means a cultural practice in which rows of a crop are alternated with strips of idle land or another crop, as determined by the Secretary.

Sorghum means both grain sorghum and dual-purpose sorghum (including any cross that, at all stages of growth, having characteristics of a feed grain or dual-purpose variety). Sweet sorghum is not considered a grain sorghum.

Upland cotton means cotton that is produced in the United States from other than pure strain varieties of the Barbadense species, any hybrid thereof, or any other variety of cotton in which one or more of these varieties predominate. In other words, it means any cotton that is not extra-long staple cotton.

§ 1414.4 Eligible producer.

(a)(1) To be eligible for payment under this subpart, a producer must have timely filed an FSA-578 with FSA for their acreage of each eligible commodity for which a payment under this subpart is requested.

(2) Federal agencies are not eligible to participate in the FBA Program.

(b) An eligible producer is a:

(1) Citizen of the United States;

(2) Resident alien, which for purposes of the FBA Program, means “lawful alien” as defined in 7 CFR part 1400;

(3) Partnership organized under State law consisting solely of citizens of the United States or resident aliens;

(4) Corporation, limited liability company, or other organizational structure organized under State law consisting solely of citizens of the United States or resident aliens; or

(5) Indian Tribe or Tribal organization, as defined in section 4(b) of the Indian Self-Determination and Education Assistance Act (25 U.S.C. 5304).

(c)(1) A State, political subdivision, or agency thereof, is eligible for a payment under this subpart if:

(i) The land for which payments are received is owned by the State, political subdivision, or agency thereof; and

(ii) The payments are used solely for the support of public schools.

(2) The total of payments to the State, political subdivision, or agency thereof cannot exceed $500,000 annually, except for States with a population less than 1,500,000, as established by the most recent U.S. Census Bureau annual estimate of the State's resident population. This limitation is in addition to the limitation per person or legal entity described in § 1414.8. States with a population of less than 1,500,000 are subject to the regular per person or entity limit in § 1414.8.

(d) To be eligible for assistance under this subpart, a producer must be in compliance with the provisions of 7 CFR part 12 and the provisions of 7 CFR 718.6, which address ineligibility for benefits for offenses involving controlled substances.

(e) To be eligible for assistance under this subpart, a producer must be actively engaged in farming. FSA will administer this requirement according to the provisions of 7 CFR part 1400, subparts C and G.

(f) A receiver or trustee of an insolvent or bankrupt debtor's estate, an executor or an administrator of a deceased person's estate, a guardian of an estate of a ward or an incompetent person, and trustees of a trust are considered to represent the insolvent or bankrupt debtor, the deceased person, the ward or incompetent, and the beneficiaries of a trust, respectively. The production of the receiver, executor, administrator, guardian, or trustee is considered to be the production of the person or estate represented by the receiver, executor, administrator, guardian, or trustee.

§ 1414.5 Eligible acres.

(a) Eligible acres under this subpart include 2025 crop year acres planted in the United States to an eligible commodity, excluding acreage reported as a cover crop, and acreage with an intended use of grazing, experimental, green manure, left standing, or volunteer. Producers must have reported the acres to FSA on FSA-578 by December 19, 2025, to be eligible for payment under this subpart.

(b) FBA Program payments will be based on timely reported acres. If reported acres have determined acres present, determined acres will be used.

(c) Planted acreage includes any land devoted to planted acres for accepted skip-row planting patterns, as determined by the Secretary. FSA will calculate FBA Program payments for skip-row acreage based on the total acres devoted to the eligible commodity without making reductions specified in 7 CFR 718.108 that are applicable to other FSA programs.

(d) In situations where a producer planted both an initial crop and a subsequent crop on the same acreage for the 2025 crop year, both the initial crop and the subsequent crop will be eligible for the FBA Program if they were eligible commodities.

§ 1414.6 Time and method of application.

(a) Producers must contact an FSA county office to obtain their pre-filled CCC-555 and submit this form to any FSA county office by April 17, 2026. Applicants will submit one application that includes all eligible acreage in all counties nationwide.

(b) The date to apply for payments under this program may, at the sole discretion of FSA, be extended. If FSA makes that decision, the extended date will be set forth at https://www.fsa.usda.gov/fba. Producers may also obtain that information from any FSA county office.

(c) Producers must also submit the following eligibility forms to FSA by April 19, 2027, if not already on file with FSA for the 2025 program year:

(1) CCC-901, Member Information for Legal Entities, if applicable;

(2) CCC-902E, Farm Operating Plan for an Entity; if applicable;

(3) CCC-902I, Farm Operating Plan for an Individual, if applicable;

(4) CCC-941, Average Adjusted Gross Income (AGI) Certification and Consent to Disclosure of Tax Information, for individuals, legal entities, and members of legal entities, excluding joint ventures and general partnerships; and

(5) AD-1026 Highly Erodible Land Conservation (HELC) and Wetland Conservation (WC) Certification, for the producer and affiliated persons, as specified in 7 CFR 12.8.

§ 1414.7 Payment calculation.

(a) Payments will be determined by multiplying the eligible acres of an eligible commodity by the payment rate for such commodity. Payment rates are specified in paragraph (b) of this section.

(b) The FBA Program payment rates are specified in the following table.

Table 1 to Paragraph (b)—FBA Program Payment Rates
Eligible commodity | Payment rate per acre
Barley | $20.51
Canola | 23.57
Chickpeas, Large | 26.46
Chickpeas, Small | 33.36
Corn | 44.36
Cotton | 117.35
Crambe | 0
Flax | 8.05
Lentils | 23.98
Mustard | 23.21
Oats | 81.75
Peanuts | 55.65
Peas, Dry | 19.60
Rapeseed | 0
Rice | 132.89
Safflower | 24.86
Sesame | 13.68
Sorghum | 48.11
Soybeans | 30.88
Sunflowers | 17.32
Wheat | 39.35

§ 1414.8 Payment eligibility and limitation.

(a) A person, legal entity, or member of a joint venture or general partnership, as determined in 7 CFR part 1400 in effect on February 23, 2026, cannot receive, directly or indirectly, more than $155,000 under this subpart. The regulations set forth in part 1400 will be used to administer this limitation.

(b) A person or legal entity with an average adjusted gross income that exceeds $900,000, as determined according to 7 CFR part 1400, subpart F, will not be eligible to receive benefits, directly or indirectly, under this subpart.

§ 1414.9 General provisions.

(a) All information provided to FSA for program eligibility and payment calculation purposes is subject to spot check. Participants are required to retain documentation in support of their application for 3 years after the date of approval, including verifiable evidence of planted acres of eligible commodities. Participants receiving FBA Program payments or any other person who furnishes such information to the U.S. Department of Agriculture (USDA) must permit authorized representatives of USDA or the Government Accountability Office, during regular business hours, to enter the operation and to inspect, examine, and allow representatives to make copies of books, records, or other items for the purpose of confirming the accuracy of the information provided by the participant.

(b) If an FBA Program payment resulted from erroneous information provided by a participant, or any person acting on their behalf, the payment will be recalculated and the participant must refund any excess payment to FSA with interest calculated from the date of the disbursement of the payment. If FSA determines that the applicant intentionally misrepresented information included on their application, the application will be disapproved and the applicant must refund the full payment to FSA with interest from the date of disbursement.

(c) Any payment under this subpart will be made without regard to questions of title under State law and without regard to any claim or lien. The regulations governing offsets in 7 CFR part 3 apply to FBA Program payments.

(d) In either applying for or participating in the FBA Program, or both, the applicant is subject to laws against perjury (including, but not limited to, 18 U.S.C. 1621). If the applicant willfully makes and represents as true any verbal or written declaration, certification, statement, or verification that the applicant knows or believes not to be true, in the course of either applying for or participating in the FBA Program, or both, then the applicant may be found to be guilty of perjury. Except as otherwise provided by law, if guilty of perjury the applicant may be fined, imprisoned for not more than 5 years, or both, regardless of whether the applicant makes such verbal or written declaration, certification, statement, or verification within or outside the United States.

(e) For the purposes of the effect of a lien on eligibility for Federal programs (28 U.S.C. 3201(e)), USDA waives the restriction on receipt of funds under this subpart but only as to beneficiaries who, as a condition of the waiver, agree to apply the FBA Program payments to reduce the amount of the judgment lien.

(f) In addition to any other Federal laws that apply to the FBA Program, the following laws apply: 18 U.S.C. 286, 287, 371, and 1001.

Subpart B—[Reserved]

William Beam,
Executive Vice President, Commodity Credit Corporation.

[FR Doc. 2026-03456 Filed 2-20-26; 8:45 am]

BILLING CODE 3411-E2-P